FEDERAL COMMUNICATIONS COMMISSION

47 CFR Part 73

[DA 04-2131; MB Docket No. 04-79, RM-10873, RM-10874; MB Docket No. 04-83, RM-10878; MB Docket No. 04-85, RM-10880, RM-10881; MB Docket No. 04-86, RM-10882, RM-10883, RM-10884, RM-10885; MB Docket No. 04-87, RM-10886; MB Docket No. 04-88, RM-10887; MB Docket No. 04-89, RM-10888; MB Docket No. 04-90, RM-10889; MB Docket No. 04-91, RM-10890, RM-10891; MB Docket No. 04-92, RM-10892, RM-10893; MB Docket No. 04-93, RM-10894; MB Docket No. 04-94, RM-10895; MB Docket No. 04-95, RM-10896]

Radio Broadcasting Services; Anniston, AL, Asbury, IA, Horseshoe Beach, FL, Keosauqua, IA, Live Oak, FL, Moville, IA, Olathe, CO, Rudd, IA, Somerton, AZ, Sutter Creek, CA, Weiser, ID, Westley, CA

AGENCY: Federal Communications Commission.

ACTION: Final rule.

SUMMARY: The Audio Division grants thirteen reservation proposals requesting to amend the FM Table of Allotments by reserving certain vacant FM allotments for noncommercial educational use in Anniston, Alabama, Asbury, Iowa, Horseshoe Beach, Florida, Keosauqua, Iowa, Live Oak, Florida, Moville, Iowa, Olathe, Colorado, Rudd, Iowa, Somerton, Arizona, Sutter Creek, California, Weiser, Idaho, Westley, California. See 69 FR 18860, published April 9, 2004. At the request of American Family Association, the Audio Division grants a petition requesting to reserve vacant Channel 261C3 at Anniston, Alabama for noncommercial educational use. The reference coordinates for Channel *261C3 at Anniston are 33-40-51 North Latitude and 85-48-56 West Longitude. At the request of Radio Bilingue, Inc., the Audio Division grants a petition requesting to reserve vacant Channel 260C3 at Somerton, Arizona for noncommercial educational use. The reference coordinates for Channel *260C3 at Somerton are 32-35-0 North Latitude and 114-35-5 West Longitude. At the request of American Family Association and Calvary Chapel of Amador County, the Audio Division grants petitions requesting to reserve vacant Channel 298A at Sutter Creek, California for noncommercial educational use. The reference coordinates for Channel *298A at Sutter Creek are 38-23-30 North Latitude and 120-48-06 West Longitude. See SUPPLEMENTARY INFORMATION, infra.

DATES: Effective September 7, 2004.

ADDRESSES: Federal Communications Commission, 445 Twelfth Street, SW., Washington, DC. 20554.

FOR FURTHER INFORMATION CONTACT: Rolanda F. Smith, Media Bureau, (202) 418-2180.

SUPPLEMENTARY INFORMATION: This is a synopsis of the Commission's Report and Order, MB Docket Nos. 04-79, 04-83, 04-85, 04-86, 04-87, 04-88, 04-89, 04-90, 04-91, 04-92, 04-93, 04-94, and 04-95 adopted July 14, 2004 and released July 20, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20554, telephone 1-800-378-3160, or via e-mail http://www.BCPIWEB.com. The Commission will send a copy of this Report and Order in a report to be sent to Congress and the General Accounting Office pursuant to the Congressional Review Act, see 5 U.S.C. 801(a)(1)(A).

At the request of American Family Association, Radio Bilingue, Inc., and Starboard Media Foundation, Inc., the Audio Division grants petitions requesting to reserve vacant Channel 238A at Westley, California for noncommercial educational use. The reference coordinates for Channel *238A at Westley are 37-28-13 North Latitude and 121-11-14 West Longitude. At the request of Calvary Chapel of Montrose, the Audio Division grants a petition to reserve vacant Channel 270C2 at Olathe, Colorado for noncommercial educational use. The reference coordinates for Channel *270C2 at Olathe are 38-36-18 North Latitude and 107-58-54 West Longitude. At the request of Calvary Chapel of Montrose, the Audio Division grants a petition requesting to reserve vacant Channel 293C at Olathe, Colorado for noncommercial educational use. The reference coordinates for Channel *293C at Olathe are 38-37-3 North Latitude and 107-58-33 West Longitude. At the request of Living Proof, Inc., the Audio Division grants a petition requesting to reserve vacant Channel 234C3 at Horseshoe Beach, Florida for noncommercial educational use. The reference coordinates for Channel *234C3 at Horseshoe Beach are 29-26-28 North Latitude and 83-17-15 West Longitude. At the request of Starboard Media Foundation, Inc., the Audio Division grants a petition requesting to reserve vacant Channel 259A at Live Oak, Florida for noncommercial educational use. The reference coordinates for Channel *259A at Live Oak are 30-13-12 North Latitude and 82-54-0 West Longitude. At the request of American Family Association and Starboard Media Foundation, Inc., the Audio Division grants petitions requesting to reserve vacant Channel 238A at Asbury, Iowa for noncommercial educational use. The reference coordinates for Channel *238A at Asbury are 42-30-18 North Latitude and 90-40-46 West Longitude. At the request of University of Iowa and Starboard Media Foundation, Inc., the Audio Division grants petitions requesting to reserve vacant Channel 271C3 at Keosauqua, Iowa for noncommercial educational use. The reference coordinates for Channel *271C3 at Keosauqua are 40-43-48 North Latitude and 91-57-48 West Longitude. At the request of Starboard Media Foundation, Inc., the Audio Division grants a petition requesting to reserve vacant Channel 246A at Moville, Iowa for noncommercial educational use. The reference coordinates for Channel *246A at Moville are 42-29-11 North Latitude and 96-0-36 West Longitude. At the request of American Family Association, the Audio Division grants a petition requesting to reserve vacant Channel 268A at Rudd, Iowa for noncommercial educational use. The reference coordinates for Channel *268A at Rudd are 43-7-34 North Latitude and 92-54-20 West Longitude. At the request of Boise Community Radio Project, Inc., the Audio Division grants a petition requesting to reserve vacant Channel 280C1 at Weiser, Idaho for noncommercial educational use. The reference coordinates for Channel *280C1 at Weiser are 44-20-39 North Latitude and 117-7-14 West Longitude.

List of Subjects in 47 CFR Part 73

Radio, Radio broadcasting.

For the reasons discussed in the preamble, the Federal Communications Commission amends 47 CFR Part 73 as follows:

PART 73—RADIO BROADCAST SERVICES

1.The authority citation for part 73 continues to read as follows:

Authority: 47 U.S.C. 154, 303, 334 and 336.

§ 73.202 [Amended]

2. Section 73.202(b), the Table of FM Allotments under Alabama, is amended by adding Channel *261C3 and by removing Channel 261C3 at Anniston.

3. Section 73.202(b), the Table of FM Allotments under Arizona, is amended by adding Channel *260C3 and by removing Channel 260C3 at Somerton.

4. Section 73.202(b), the Table of FM Allotments under California, is amended by adding Channel *298A and by removing Channel 298A at Sutter Creek; and by adding Channel *238A and by removing Channel 238A at Westley.

5. Section 73.202(b), the Table of FM Allotments under Colorado, is amended by adding Channel *270C2 and by removing Channel 270C2 at Olathe; and by adding Channel *293C and by removing Channel 293C at Olathe.

6. Section 73.202(b), the Table of FM Allotments under Florida, is amended by adding Channel *234C3 and by removing Channel 234C3 at Horseshoe Beach; and by adding Channel *259A and by removing Channel 259A at Live Oak.

7. Section 73.202(b), the Table of FM Allotments under Idaho, is amended by adding Channel *280C1 and by removing Channel 280C1 at Weiser.

8. Section 73.202(b), the Table of FM Allotments under Iowa, is amended by adding Channel *238A and by removing Channel 238A at Asbury; by adding Channel *271C3 and by removing Channel 271C3 at Keosauqua; by adding Channel *246A and by removing Channel 246A at Moville; and by adding Channel *268A and by removing Channel 268A at Rudd.

Federal Communications Commission.
John A. Karousos,
Assistant Chief, Audio Division, Media Bureau.

[FR Doc. 04-17545 Filed 8-2-04; 8:45 am]

BILLING CODE 6712-01-P